DEPARTMENT OF COMMERCE

Foreign-Trade Zones Board

[S-203-2022]

Approval of Subzone Status; Jo-Ann Stores, LLC, Opelika, Alabama

On November 21, 2022, the Executive Secretary of the Foreign-Trade Zones (FTZ) Board docketed an application submitted by the Montgomery Area Chamber of Commerce, grantee of FTZ 222, requesting subzone status subject to the existing activation limit of FTZ 222, on behalf of Jo-Ann Stores, LLC, in Opelika, Alabama.

The application was processed in accordance with the FTZ Act and Regulations, including notice in the Federal Register inviting public comment (87 FR 72963, November 28, 2022). The FTZ staff examiner reviewed the application and determined that it meets the criteria for approval. Pursuant to the authority delegated to the FTZ Board Executive Secretary (15 CFR 400.36(f)), the application to establish Subzone 222C was approved on January 11, 2023, subject to the FTZ Act and the Board's regulations, including section 400.13, and further subject to FTZ 222's 2,000-acre activation limit.

Dated: January 11, 2023.
Elizabeth Whiteman,
Acting Executive Secretary.

[FR Doc. 2023-00734 Filed 1-13-23; 8:45 am]

BILLING CODE 3510-DS-P